DEPARTMENT OF DEFENSE

Department of the Army

Environmental Impact Statement for Area Development Plan, Davison Army Airfield, Fort Belvoir, VA

AGENCY: Department of the Army, DOD.

ACTION: Notice of intent.

SUMMARY: The Department of the Army (Army) announces its intent to conduct public scoping under the National Environmental Policy Act (NEPA) and solicit public comments to gather information to prepare an Environmental Impact Statement (EIS) for a proposed Area Development Plan (ADP) for Davison Army Airfield (DAAF), U.S. Army Garrison Fort Belvoir (Fort Belvoir), Virginia. The EIS will analyze the potential environmental impacts that would result from implementing the projects identified in the ADP (Proposed Action). The Proposed Action consists of multiple new construction, replacement, demolition, and renovation projects at DAAF. The Proposed Action does not include, nor would it require, substantial changes in missions, air operations, or the number of aircraft or personnel. The scoping process will help identify reasonable alternatives, potential environmental impacts, and key issues of concern to be analyzed in the EIS. The Army intends to comply with the requirements of Section 106 of the National Historic Preservation Act in parallel with this NEPA process, and invites federally recognized tribes and the State Historic Preservation Office to participate in the consultation process.

DATES: Comments must be sent by May 21, 2018.

ADDRESSES: Please send written comments to: U.S. Army Corps of Engineers, ATTN. Heather Cisar, Planning Division, 2 Hopkins Plaza, 10th Floor, Baltimore, MD 21201.

FOR FURTHER INFORMATION CONTACT: Heather Cisar at: FortBelvoirNOI@usace.army.mil

SUPPLEMENTARY INFORMATION: DAAF is located on Fort Belvoir's North Post in Fairfax County, VA. DAAF is home to The Army Aviation Brigade's (TAAB) 12th Aviation Battalion (AVN BN) and several other tenants, including the Night Vision and Electronic Sensor Directorate (NVESD); District of Columbia Army National Guard (DCARNG); Operational Support Airlift Activity/Operational Support Airlift Command (OSA-A/OSACOM); Civil Air Patrol; and TAAB's Airfield Division. DAAF's existing physical infrastructure consists of buildings and pavements. Buildings include several fixed- and rotary-wing aircraft (helicopter) maintenance hangars, operations/administrative facilities, an air control tower, and a fire station. A number of buildings are old and inefficient (dating from the 1950's to 1970's) and are too small. DAAF's buildings are also located in an inefficient way, resulting in spread-out operations; interaction of helicopters and fixed-wing aircraft that reduces operational safety; and the need for multiple runway crossings. Finally, a number of facilities are in violation of airfield design requirements and operate under temporary waivers.

Fort Belvoir has a current Real Property Master Plan (RPMP) for the Main Post and Fort Belvoir North Area. Within that plan, DAAF is a district requiring an ADP. Therefore, the Army is preparing an ADP to support and complement the RPMP and guide future development actions at DAAF.

The proposed ADP identifies multiple projects that will address the airfield's deficiencies and accommodate the space and functional needs of DAAF's tenants, consistent with applicable regulations and the airfield's vision to create a safe, secure, sustainable, consolidated aviation complex that allows for mission growth and provides multiple services in a compact campus. The ADP projects include the construction of a consolidated complex for the 12th AVN BN comprising one new aircraft maintenance hangar and two new aircraft storage hangars, along with supporting facilities (including wash rack and paint booth), associated aircraft parking aprons, and privately owned vehicle (POV) parking; consolidation of NVESD to new facilities; renovation and extension of the existing DCARNG facilities; construction of a new aircraft maintenance hangar and a new administrative facility for OSA-A/OSACOM; and renovation and extension of the Airfield Division's building. Up to 25 existing facilities would be demolished, including the buildings currently under temporary waivers. Infrastructure improvements would include construction of a 200-foot runway extension; realignment and extension of existing roadways; construction of an entry gate meeting applicable antiterrorism/force protection (AT/FP) standards; and excavation and grading of a wooded knoll to eliminate airfield clearance violations.

At a minimum, the EIS will analyze the potential impacts of three alternatives: No Action Alternative, Full Implementation Alternative, and Partial Implementation Alternative. Any other reasonable alternatives identified during the scoping process will be considered for evaluation in the EIS. The EIS will assess the impacts of the alternatives on resources and identify mitigation measures. The proposed action could result in significant adverse effects on the 100-year floodplain associated with Accotink Creek, which covers a substantial part of DAAF, and on wetlands. One of the proposed projects would require using part of Anderson Park, a Fort Belvoir recreational resource adjacent to DAAF, to construct a new POV parking lot.

Governmental agencies, federally recognized Indian tribes, interested organizations, and individuals are invited to participate in the scoping process for the preparation of this EIS by attending meetings and/or submitting written comments.

Written comments must be sent within 30 days of publication of this NOI in the Federal Register. A public scoping meeting will be held near Fort Belvoir during this period. Notification of the meeting's time and location will be published locally.

Brenda S. Bowen,
Army Federal Register Liaison Officer.

[FR Doc. 2018-08205 Filed 4-18-18; 8:45 am]

BILLING CODE 5001-03-P